ENVIRONMENTAL PROTECTION AGENCY

40 CFR Parts 2 and 51

[EPA-HQ-OAR-2004-0489; FRL-8604-04-OAR]

Revisions to the Air Emissions Reporting Requirements

AGENCY: Environmental Protection Agency (EPA).

ACTION: Proposed rule; extension of comment period.

SUMMARY: The Environmental Protection Agency (EPA) is extending the comment period for the proposed revisions to the Air Emissions Reporting Requirements (AERR), published in the Federal Register on August 9, 2023. The current comment period for the proposed rule is set to end on October 18, 2023. EPA has received numerous requests to extend the comment period given the complexity and length of the proposed rulemaking. The EPA is extending the comment period for the proposed action to November 17, 2023. The EPA is also extending the comment period for the associated Information Collection Request (ICR), number 2170.09, for the proposed AERR to November 17, 2023.

DATES: The comment period for the proposed rule and ICR published on August 9, 2023, at 88 FR 54118 is extended. Comments must be received on or before November 17, 2023.

ADDRESSES: Submit your comments, identified by Docket ID No. EPA-HQ-OAR-2004-0489, by one of the following methods:

• www.regulations.gov: Follow the online instructions for submitting comments.

• Email: a-and-r-docket@epa.gov. Fax: (202) 566-9744.

• Mail: Air Emissions Reporting Requirements Rule, Docket No. EPA-HQ-OAR-2004-0489, Environmental Protection Agency, Mailcode: 2822T, 1200 Pennsylvania Ave. NW, Washington, DC 20460. Please include two copies.

• Hand Delivery: Docket No. EPA-HQ-OAR-2004-0489, EPA Docket Center, Public Reading Room, EPA West, Room 3334, 1301 Constitution Ave. NW, Washington, DC 20460. Such deliveries are only accepted during the Docket's normal hours of operation, and special arrangements should be made for deliveries of boxed information.

Instructions: All submissions received must include the Docket ID No. for this rulemaking. Comments received may be posted without change to https://www.regulations.gov/, including any personal information provided.

FOR FURTHER INFORMATION CONTACT: Mr. Marc Houyoux, Office of Air Quality Planning and Standards, Air Quality Assessment Division, Emission Inventory and Analysis Group (C339-02), U.S. Environmental Protection Agency, Research Triangle Park, NC 27711; telephone number: (919) 541-3649; email: NEI_Help@epa.gov (and include “AERR” on the subject line).

SUPPLEMENTARY INFORMATION: On Wednesday, August 9, 2023, the EPA published proposed revisions to the Air Emissions Reporting Requirements along with an associated ICR in the Federal Register. The comment period for the proposed AERR was for 70 days, ending on October 18, 2023. On September 14, 2023, the EPA reopened the comment period for the ICR (88 FR 63046). The EPA received numerous comments requesting that the Agency extend the comment period for the proposed AERR. To ensure the public has sufficient time to review the proposed AERR and the associated ICR, the EPA is extending the comment periods for both by 30 days, ending on November 17, 2023.

Dated: October 5, 2023.
Richard A. Wayland,
Director, Air Quality Assessment Division, Office of Air Quality and Planning Standards.

[FR Doc. 2023-22530 Filed 10-11-23; 8:45 am]

BILLING CODE 6560-50-P